U.S. AGENCY FOR INTERNATIONAL DEVELOPMENT

Board for International Food and Agricultural Development; One Hundred and Fifty-Seventh Meeting; Notice of Meeting

Pursuant to the Federal Advisory Committee Act, notice is hereby given of the one hundred and fifty-seventh meeting of the Board for International Food and Agricultural Development (BIFAD). The meeting will be held from 8:15 a.m. to 4 p.m. on July 29, 2009 at the National Press Club located at 529 14th St., NW., Washington, DC. The venue will be the Holeman Lounge which is located on the 13th floor of the National Press Club. “Higher Education: A Critical Partner in Global Agricultural Development” continues to be the central theme of BIFAD's initiatives and the July meeting.

Dr. Robert Easter, Chairman of BIFAD, will preside over the proceedings. Dr. Easter is Interim Provost and Vice Chancellor for Academic Affairs, University of Illinois at Urbana-Champaign.

Food security, including the broadly emerging issues surrounding climate change, and the role of universities in partnership with USAID to achieve critical short and long-term development objectives is the focus of the Board's Agenda as set for the 157th meeting. The 157th meeting continues to build toward the establishment of a special strategic partnership between USAID and the university community and the launching of a university “Brain Trust.” Underpinning these initiatives the Board's discussion incorporates the results from its second Conference of Deans (COD II) which was held in Washington, DC on June 28 and 29, 2009. The COD II's theme was “Building a Global Food Security Strategy: The Role of Higher Education in US International Development.”

BIFAD's morning session will begin with a panel discussion, “BIFAD's Conference of Deans II: Perspectives on Food Security and the Role of Universities.” University recommendations and USAID perspectives from the COD II will be presented. A second panel will compliment the first session with the discussion, “Partners in Development: Business, Cooperatives and NGOs.” At mid-morning congressional staff will provide updates on directions and funding implications of the Lugar-Casey and McCollum Agriculture Bills. Particular attention will be directed to the HECTARE component of the legislation. Congressional presenters will be Connie Veillette, Senior Professional Staff Member, House Foreign Relation Committee and Peter Frosch, Legislative Director, Senate Foreign Relations Committee. Time will be made available for questions from the public attending.

After the morning break the Board will hear commentary from the university community on “USAID's Agricultural Development Plans for Afghanistan.” Several university perspectives will be presented.

Following an executive luncheon (closed to the public) the Board will continue discussion with an emphasis on agricultural innovation and responses to the impending climate change, particularly from an agro-ecological perspective. This will be highlighted in a special panel presentation, “Climate Proofing Agriculture: Lessons from the System of Rice Intensification.” The presentation will be led by Norman Uphoff, Program Leader for Sustainable Rice Intensification, Cornell University. USDA's response will be provided by Carol Kramer-LeBlanc, Director, Sustainable Development Program, USDA/CREES.

Shifting to a regional focus, USAID's Latin American Bureau will present to the Board key aspects of its trade-led strategy for agricultural diversification to promote agriculture and food security, “Optimizing the Economic Growth and Poverty Reduction Benefits of CAFTA-DR.” This USAID presentation will be delivered by a representative from the Office of Sustainable Development, Bureau for Latin America.

Operational and management issues pertaining to the Board and linked to implementation of Title XII will be covered through several reports. First, the Board's sub-committee, Strategic Partnership for Agricultural Research and Education (SPARE), will report on its February 2009 meeting held at the University of Florida in Gainesville. Topics to be covered are SPARE's discussion on the Casey-Lugar Bill, specifically on how the Agency could implement the HECTARE portion of the legislation, and issues related to scaling-up agricultural programming in view of the Agency's increased efforts in Afghanistan and Pakistan. The concluding report will be an update from USAID's Office of Acquisitions and Assistance (OAA) on USAID's rule regarding the use of key subcontractors by prime contractors; particularly with regard to universities as subcontractors.

The Board meeting is open to the public. The Board welcomes open dialogue to promote greater focus on critical issues facing USAID, the role of universities in development, and applications of U.S. scientific, technical and institutional capabilities to international agriculture. Note on Public Comments: Due to time constraints public comments to the Board will be limited to two (2) minutes to accommodate as many as possible. The comments must be submitted ahead of the meeting and they must be in writing.

Those wishing to attend the meeting or obtain additional information about BIFAD should contact Dr. Ronald S. Senykoff, Executive Director and Designated Federal Officer for BIFAD. Write him in care of the U.S. Agency for International Development, Ronald Reagan Building, Office of Development Partners, 1300 Pennsylvania Avenue, NW., Room 6.7-153, Washington, DC, 20523-2110 or telephone him at (202) 712-0218 or fax (202) 216-3124.

Ronald S. Senykoff,
Executive Director and USAID Designated Federal Officer for BIFAD, Office of Development Partners, U.S. Agency for International Development.

[FR Doc. E9-17273 Filed 7-20-09; 8:45 am]

BILLING CODE 6116-01-P